DEPARTMENT OF AGRICULTURE

Food and Nutrition Service

Agency Information Collection Activities: Proposed Collection, Comment Request—National Hunger Clearinghouse Survey

AGENCY: Food and Nutrition Service, USDA.

ACTION: Notice.

SUMMARY: In accordance with the Paperwork Reduction Act of 1995, this notice announces FNS' intention to request renewal of Office of Management and Budget (OMB) approval of the National Hunger Clearinghouse Survey.

DATES: Comments on this notice must be received by May 5, 2003.

ADDRESSES: Comments are invited on: (a) Whether the proposed collection of information is necessary for the proper performance of the functions of the agency, including whether the information has practical utility; (b) the accuracy of the agency's estimate of the burden of the proposed collection of information; (c) ways to enhance the quality, utility, and clarity of the information to be collected; (d) ways to minimize the burden of the collection of information on those who are to respond, including the use of appropriate automated, electronic, mechanical, or other technological collection techniques or other forms of information technology. Comments may be sent to Pam Phillips, Director, Consumer and Community Affairs, Office of Communications and Governmental Affairs, Food and Nutrition Service, U.S. Department of Agriculture, 3101 Park Center Drive, Room 912, Alexandria, VA 22302.

All responses to this notice will be summarized and included in the request for OMB approval. All comments will also become a matter of public record.

FOR FURTHER INFORMATION CONTACT: Pam Phillips, (703) 305-2298. Copies of this information collection can be obtained from Martha Newton at the address listed above.

SUPPLEMENTARY INFORMATION: Title: National Hunger Clearinghouse Survey.

OMB Number: 0584-0474.

Expiration Date: 2/28/03.

Type of Request: Renewal of OMB approval.

Abstract: Section 26(d) of the Richard B. Russell National School Lunch Act (42 U.S.C. 1769g(d)), which was added to the Act by section 123 of Pub. L. 103-448 on November 2, 1994, mandated that FNS enter into a four-year contract with a non-governmental organization to establish and maintain an information clearinghouse (named “USDA National Hunger Clearinghouse” or “Clearinghouse”) for groups that assist low-income individuals or communities regarding nutrition assistance programs or other assistance. FNS awarded the contract to World Hunger Year (WHY), Inc. on September 29, 1995; the contract ended on September 30, 1999.

Section 26(d) was amended by section 112 of Pub. L. 105-336 on October 31, 1998 to extend funding for the Clearinghouse (now called “National Hunger Clearinghouse” or “Clearinghouse”) through fiscal year 2003. FNS awarded the five-year contract to World Hunger Year on September 29, 1999; it expires on September 30, 2003.

The Clearinghouse includes a database of non-governmental, grassroots programs that work in the areas of hunger and nutrition, as well as a mailing list of relevant local governmental agencies. Under the original contract, Clearinghouse staff established the database by reviewing relevant programs of organizations contained in several existing mailing lists. Program and mailing information about organizations culled from these lists were collected and entered into the database once each contract year (years one through four of the original contract and years one through four so far of the existing contract) through a series of electronically-processed survey questionnaires sent through the United States Postal Service. Clearinghouse staff followed up by phone or facsimile to ensure the highest possible return rate on the questionnaires. Surveys could also be completed on the World Wide Web. Returned surveys were scanned and data entered into the database.

Survey questionnaires will be sent out one more time (year five) in the current contract. For this information collection, the following information was determined:

Estimate of the Burden: Public reporting burden for this collection of information is estimated to average five minutes for the survey (the survey includes one two-page instrument).

Respondents: The respondents are non-governmental organizations that have grassroots food and nutrition programs.

Estimated Number of Respondents: 1,750.

Estimated Number of Responses per Respondent: One response per respondent.

Estimated Total Annual Burden on Respondents: 146 hours.

Dated: February 27, 2003.
Eric M. Bost,
Under Secretary, Food, Nutrition and Consumer Services.

[FR Doc. 03-5114 Filed 3-4-03; 8:45 am]

BILLING CODE 3410-30-M